DEPARTMENT OF THE INTERIOR

Fish and Wildlife Service

[FWS-R4-ES-2017-N012; FXES11140400000-178-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with listed species unless a Federal permit is issued that allows such activities. The Act requires that we invite public comment before issuing these permits.

DATES: We must receive written data or comments on the applications at the address given in ADDRESSES by April 12, 2017.

ADDRESSES:

Reviewing Documents: Documents and other information submitted with the applications are available for review, subject to the requirements of the Privacy Act and Freedom of Information Act, by any party who submits a written request for a copy of such documents to the following office within 30 days of the date of publication of this notice: U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: Fish and Wildlife Service's Regional Office (see above).

• Email: permitsR4ES@fws.gov. Please include your name and return address in your email message. If you do not receive a confirmation from the Fish and Wildlife Service that we have received your email message, contact us directly at the telephone number listed in FOR FURTHER INFORMATION CONTACT.

FOR FURTHER INFORMATION CONTACT: Karen Marlowe, Permit Coordinator, 404-679-7097 (telephone) or 404-679-7081 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; Act), and our regulations in the Code of Federal Regulations (CFR) at 50 CFR part 17. With some exceptions, the Act prohibits activities with listed species unless a Federal permit is issued that allows such activities. The Act requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications

Permit Application Number: TE 23583B-2

Applicant: Holly K. Ober, University of Florida, Quincy, FL

The applicant requests amendment of her permit to increase the number of Florida bonneted bats (Eumops floridanus) that may be radio-tagged or tagged with GPS satellite transmitters from 30 non-reproductive adults to up to 70, and to renew the permit to continue take (work around bat houses and other roost sites, salvage dead bats, capture, handle, identify, collect biological samples, band (or freeze brand), radio-tag, GPS satellite tag, and tag with Passive Integrated Transponder (PIT) tags) Florida bonneted bats while conducting presence/absence surveys, studies to document habitat use, and population monitoring in Florida.

Permit Application Number: TE 61981B-2

Applicant: The Peregrine Fund, Boise, ID.

The applicant requests renewal of their permit to continue take (capture; band; radio-tag; collect blood; collect chest feathers; salvage carcasses, eggshells, and infertile eggs; and treat for parasites) the endangered Puerto Rican sharp-shinned hawk (Accipiter striatus venator) in Puerto Rico for scientific research aimed at conservation of the species.

Permit Application Number: TE 41910B-1

Applicant: Scott A. Rush, Mississippi State University, Starkville, MS.

The applicant requests amendment of his permit to add authorization to take (capture with mist nets or harp traps, handle, identify, and release) Virginia big-eared bats (Corynorhinus (= plecotus) townsendii virginianus) for presence/absence surveys in Tennessee, and to add the States of Alabama and Tennessee to his current permit, which authorizes take (capture with mist nets or harp traps, handle, identify, and release) of gray bat (Myotis grisescens), Indiana bat (M. sodalis), and northern long-eared bat (M. septentrionalis) for presence/absence surveys in the State of Mississippi only.

Permit Application Number: TE 35594A-2

Applicant: Alabama Power Company, Birmingham, AL.

The applicant requests renewal of their permit to continue take (capture, identify, and release) of gopher tortoise (Gopherus polyphemus), flattened musk turtle (Sternotherus depressus), fine-lined pocketbook (Lampsilis altilis), Georgia pigtoe (Pleurobema hanleyianum), southern clubshell (P. decisum), southern pigtoe (P. georgianum), cylindrical lioplax (Lioplax cyclostomaformis), interrupted rocksnail (Leptoxis foremani), painted rocksnail (L. taeniata), rough hornsnail (Pleurocera foremani), and tulotoma (Tulotoma magnifica) while conducting presence/absence surveys, and take (cavity and nest monitoring) of red-cockaded woodpecker (Picoides borealis) for population monitoring throughout the State of Alabama.

Permit Application Number: TE 16616C-0

Applicant: Thomas E. Nupp, Arkansas Tech University, Russellville, AR.

The applicant requests a permit to take (enter nesting colony, monitor nests, float eggs, capture chicks, and band chicks) interior least terns (Sterna antillarum) for the purpose of calculating nest survival, chick survival, and fledgling rates in the Arkansas River Valley, Arkansas.

Permit Application Number: TE 48579B-2

Applicant: Ecological Solutions, Inc. Roswell, GA.

The applicant requests amendment of their permit to add the following States to their permit to take (enter hibernacula or maternity roost caves, salvage dead bats, capture with mist nets or harp traps, handle, identify, collect hair samples, band, radio-tag, light-tag, swab, and wing-punch) Indiana bats (Myotis sodalis), gray bats (M. grisescens) and northern long-eared bats (M. septentrionalis) while conducting presence/absence surveys, studies to document habitat use, population monitoring, and white-nose syndrome surveillance: Arkansas, Connecticut, Delaware, District of Columbia, Florida, Illinois, Indiana, Iowa, Kansas, Kentucky, Louisiana, Maine, Maryland, Massachusetts, Michigan, Minnesota, Mississippi, Missouri, Montana, Nebraska, New Hampshire, New Jersey, New York, North Dakota, Ohio, Oklahoma, Pennsylvania, Rhode Island, South Dakota, Tennessee, Vermont, Virginia, West Virginia, Wisconsin, and Wyoming.

Permit Application Number: TE 18119C-0

Applicant: Joey A. Weber, Candler, NC.

The applicant requests a permit to take (enter hibernacula or maternity roost caves, salvage dead bats, capture with mist nets or harp traps, handle, identify, collect hair samples, band, radio-tag, light-tag, swab, and wing-punch) Indiana bats (Myotis sodalis), gray bats (M. grisescens), northern long-eared bats (M. septentrionalis), and Virginia big-eared bats (Corynorhinus (= plecotus) townsendii virginianus) while conducting presence/absence surveys, studies to document habitat use, population monitoring, and white-nose syndrome surveillance in Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming.

Permit Application Number: TE 56746B-2

Applicant: Joseph S. Johnson, Ohio University, Athens, OH.

The applicant requests amendment of his permit to add authorization to take (capture with mist nets, handle, band, and radio-tag) up to 5 adult Indiana bats (Myotis sodalis) in Athens and Hocking counties, Ohio, for scientific research to identify the habitat characteristics associated with reproductive success.

Permit Application Number: TE 18986C-0

Applicant: North Carolina Zoological Park, Asheboro, NC.

The applicant requests a permit to conduct the following activities with the Virgin Islands tree boa (Epicrates monensis granti) in St. Thomas, U.S. Virgin Islands: Collect 10 males and 10 females from the wild for holding and captive propagation at the North Carolina Zoo and Fort Worth Zoo to serve as founder stock for future reintroduction efforts and as an assurance colony population; take (capture, handle, PIT-tag, collect blood, clip ventral scales or tail tip, and salvage) all Virgin Islands tree boas encountered in the field while searching for appropriate individuals for the captive propagation program for population monitoring and genetic analyses; and take (capture, handle, radio-tag, and release) up to 10 individuals to study the species' spatial/temporal habitat use.

Permit Application Number: TE 68616B-1

Applicant: Carla Atkinson, Univ. of Alabama, Tuscaloosa, AL.

The applicant requests amendment of her permit to authorize take (relocate into in-stream enclosures, attach individually labeled fishing line) of up to 800 southern clubshells (Pleurobema decisum) in the Sipsey River, Alabama, for a 3-month mussel movement and burial preferences study.

Permit Application Number: TE 62778B-1

Applicant: Chanston T. Osborne, Kennesaw, GA.

The applicant requests amendment of his permit to add authorization to take (capture with mist nets and harp traps, handle, identify, band, and attach radio transmitters) gray bats (Myotis grisescens) in Alabama, Arkansas, Florida, Georgia, Illinois, Indiana, Kansas, Kentucky, Mississippi, Missouri, North Carolina, Oklahoma, Tennessee, and West Virginia while conducting presence/absence surveys.

Authority: We provide this notice under section 10(c) of the Act.

Dated: February 1, 2017.
Leopoldo Miranda,
Assistant Regional Director, Ecological Services, Southeast Region.

[FR Doc. 2017-04846 Filed 3-10-17; 8:45 am]

BILLING CODE 4333-15-P